DEPARTMENT OF TRANSPORTATION

Federal Aviation Administration

Office of Commercial Space Transportation; Notice of Availability and Request for Comment on a Draft Environmental Assessment (EA) for the Oklahoma Spaceport

AGENCY: Federal Aviation Administration (FAA), Office of Commercial Space Transportation (AST) is the lead Federal agency for the development of this EA. The U.S. Air Force (USAF) is a cooperating agency for the development of this EA.

ACTION: Notice of Availability and Request for Comment.

SUMMARY: In accordance with National Environmental Policy Act (NEPA) regulations, the FAA is announcing the availability of and requesting comments on the Draft EA for the Oklahoma Spaceport. On October 23, 2002, the FAA published a Notice of Intent to prepare an Environmental Impact Statement for the Oklahoma Space Industry Development Authority's (OSIDA) proposal to operate a commercial launch facility at the Clinton-Sherman Industrial Airpark (CSIA) located in Burns Flat, Oklahoma. After substantial changes to the proposed action, the FAA reconsidered the scope of the analysis required to support the proposed action and alternatives and determined that an EA would more appropriately address the environmental consequences of the proposed action and alternatives. On October 7, 2005, the FAA issued a notice in the Federal Register announcing that the proposed action would be addressed in an EA.

Under the proposed action, the FAA would issue a launch site operator license to OSIDA to operate a launch facility at the CSIA and approve the land transfer of the CSIA from the city of Clinton to OSIDA. The EA evaluates potential impacts to the environment from launches and landings of three types of suborbital horizontally launched reusable launch vehicles (RLVs) ¹ from the CSIA. The FAA may use the analysis in the EA as the basis for making a determination to prepare an Environmental Impact Statement or a Finding of No Significant Impact regarding the issuance of a launch site operator license as well as the licensing or permitting of the launch of certain types of launch vehicles, and the transfer of ownership of the CSIA from the City of Clinton to OSIDA.

¹ RLVs are launch vehicles that have stages or components that can return to Earth and be recovered or reused. A suborbital rocket is a vehicle, rocket-propelled in whole or in part, intended for flight on a suborbital trajectory, and the thrust of which is greater than its lift for the majority of the rocket-powered portion of its ascent. (49 U.S.C. 70102(19))

The FAA is the lead Federal agency for the NEPA process and the USAF is a cooperating agency on this proposed action. The USAF is the primary user of the CSIA for aircrew training including landing and departures. In addition, the USAF's current and as yet undefined future activities could be impacted by the use of the CSIA as a launch site. Therefore, the FAA requested and the USAF agreed to participate as a cooperating agency in the preparation of the EA.

DATES: The public comment period for the NEPA process begins with the publication of this notice in the Federal Register. To ensure that all comments can be addressed in the Final EA, comments must be received by the FAA no later than March 13, 2006. The Draft EA is available for download at http://ast.faa.gov and at http://www.okspaceporteis.com. A hard copy of the Draft EA can also be viewed at the following locations:

Clinton Public Library, Clinton, Oklahoma;

Elk City Carnegie Library, Elk City, Oklahoma;

Oklahoma City Public Library, Downtown Branch, Oklahoma City, Oklahoma; and

South Western Oklahoma Development Authority, Burns Flat, Oklahoma.

A public hearing will be held at 7:30 p.m., Thursday, March 9, 2006 at the South Western Oklahoma Development Authority, Western Technology Center located in Burns Flat, Oklahoma. For more information about this project, please visit http://www.okspaceporteis.com.

FOR FURTHER INFORMATION CONTACT: Comments, statements, or questions concerning the Draft EA should be mailed to Mr. Doug Graham, FAA Environmental Specialist, FAA Oklahoma Spaceport EA, c/o ICF Consulting, 9300 Lee Highway, Fairfax, VA 22031. Comments can also be sent by e-mail to FAAOklahomaSpaceportEA@icfconsulting.com or by fax to (703) 934-3951.

Additional Information: Under the proposed action, the FAA would issue a launch site operator license to OSIDA for the operation of a launch facility at the CSIA and approve the land transfer of the CSIA. OSIDA has identified three types of launch vehicles, identified in the EA as Concept X, Y, and Z, which are typical of the vehicles that would operate from the CSIA. The proposed action includes launches and landings of all three types of Concept launch vehicles. No construction activities are proposed as part of the proposed action. Existing infrastructure including buildings, hangars, and runways would be used to support proposed launch and landing operations at the site. The potential users of the site would be responsible for obtaining any necessary permits or approvals including a launch license from the FAA for specific missions.

Concept X launch vehicles would use jet-powered take off with subsequent rocket ignition, and conduct powered horizontal landing. These launch vehicles would take off from conventional runways using jet power, and then ignite rocket engines at a specified altitude. The launch vehicles would use suborbital trajectories. During descent, jet engines would be restarted at a specified altitude and the vehicle would fly to a powered, horizontal landing at the CSIA.

Launch vehicles included in Concept Y would use rocket powered take off and flight, but non-powered horizontal landing. The rocket motors would be ignited while the launch vehicle is on the runway at the CSIA. These vehicles would use suborbital trajectories. The vehicle would not use powered descent but would glide to a horizontal landing at the CSIA.

Concept Z launch vehicles would be carried aloft via assist aircraft with subsequent rocket ignition, and use non-powered horizontal landing. After taking off from a horizontal runway, the launch vehicle would be released from the assist aircraft and rocket engines on the launch vehicle would be fired. The assist aircraft would make a powered horizontal landing after releasing the launch vehicle. The launch vehicle would follow a suborbital trajectory. The launch vehicle would not use powered descent but would glide to a horizontal landing at the CSIA.

The FAA considered two alternatives to the proposed action in the Draft EA. The first alternative would involve the issuance of a launch site operator license to OSIDA for the CSIA that would allow only Concept X and Y vehicles to be launched from the CSIA. The second alternative would involve the issuance of a launch site operator license to OSIDA for the CSIA that would allow only Concept X and Z vehicles to be launched from the CSIA. Finally, under the no action alternative, the FAA would not issue a launch site operator license to OSIDA and there would be no commercial launches from the CSIA. In addition, the FAA would not issue launch licenses or permits to any operators for launches from the CSIA. The CSIA would continue to be available for existing aviation and training related activities.

Potential impacts of the proposed action and alternatives were analyzed in the Draft EA. Potential environmental impacts of successful launches include impacts to the atmosphere, airspace, biological resources, cultural resources, hazardous materials and hazardous waste, health and safety, geology and soils, land use and Section 4(f) resources, noise, socioeconomics and environmental justice, transportation, visual resources, and water resources.

Potential impacts of the no action alternative would be the same as those described in the affected environment in the Draft EA. Potential cumulative impacts of the proposed action also are addressed in the Draft EA.

Date Issued: January 25, 2006.
Place Issued: Washington, DC.
Patricia Grace Smith,
Associate Administrator for Commercial Space Transportation.

[FR Doc. E6-1501 Filed 2-2-06; 8:45 am]

BILLING CODE 4910-13-P